DEPARTMENT OF HOUSING AND URBAN DEVELOPMENT

[Docket No. FR-4574-N-02]

Fiscal Year 2000 Notice of Funding Availability for the Indian Housing Drug Elimination Program; Amendment Concerning Minimum Grant Amounts

AGENCY: Office of the Assistant Secretary for Public and Indian Housing, HUD.

ACTION: Notice of Funding Availability (NOFA); Amendment.

SUMMARY: On May 11, 2000, HUD published its FY 2000 NOFA for Indian Housing Drug Elimination Program (“IHDEP”). This document amends the NOFA to provide a minimum grant award which would ensure that all eligible tribes or tribally designated housing entities who submit successful applications receive a minimum funding amount to initiate substance abuse prevent/intervention programs in their community. Minimum grant awards were included in the drug elimination program NOFAs in previous years when HUD issued NOFAs that addressed both public and Indian housing, and a minimum grant award amount was intended to be included in the FY 2000 IHDEP NOFA. This document corrects that omission.

DATES: The application due date of July 10, 2000, is not changed by this document.

FOR FURTHER INFORMATION CONTACT: Please call the local AONAPs with jurisdiction over your Tribe/tribally designated housing entity (TDHE) or HUD's Public and Indian Housing Resource Center at 1-800-955-2232 or Tracy C. Outlaw, National Office of Native American Programs (ONAP), Department of Housing and Urban Development, 1999 Broadway, Suite 3390, Denver, CO 80202, telephone (303) 675-1600 (these are not toll-free numbers). Hearing or speech-impaired individuals may access this number via TTY by calling the toll-free Federal Information Relay Service at 1-800-877-8339. Also, please see ONAP's website at http://www.codetalk.fed.us.html where you will be able to download a copy of the IHDEP NOFA, published on May 11, 2000, as well as this notice, and application kit from the Internet.

SUPPLEMENTARY INFORMATION: On May 11, 2000, HUD published its FY 2000 IHDEP NOFA (65 FR 30502). The purpose of IHDEP is to provide grants to eliminate drugs and drug-related crime in American Indian and Alaskan Native communities. The May 11, 2000 NOFA announced the availability of approximately $22 million ($11 million of FY 1999 funding and $11 million of FY 2000 funding) for the program.

It was HUD's intention that the May 11, 2000 IHDEP NOFA include a minimum grant award of $25,000 which would ensure that all eligible tribes or tribally designated housing entities who submit successful applications receive a minimum funding amount to initiate substance abuse prevention/intervention programs in their community. Minimum grant awards were included in the drug elimination program NOFAs in previous years when HUD issued NOFAs that addressed both public and Indian housing, and a minimum grant award amount was intended to be included in the FY 2000 IHDEP NOFA. This document corrects that omission.

Therefore, in the FY 2000 Notice of Funding Availability for the Indian Housing Drug Elimination Program, notice document 00-11882, beginning at 65 FR 30502, in the issue of Thursday, May 11, 2000, the following amendment is made:

On page 30507, in the second column, continuing into the third column, the introductory paragraph of Section IV.(A) (the title of Section IV is Program Requirements) and paragraph (A)(1)(a) are amended to read as follows:

(A) Grant Award Amounts. HUD is distributing grant funds for IHDEP under this NOFA on a national competition basis. The maximum grant award amounts are computed for IHDEP on a sliding scale, using an overall maximum cap, depending upon the number of Tribe/TDHE units eligible for funding. This figure (number of eligible units for funding) will determine the grant amount that the Tribe/TDHE is eligible to receive if they meet the IHDEP criteria and score a minimum of 70 out of 105 points. No selected applicant, however, will receive a grant award of less than $25,000.

(1) Amount per unit. (a) for tribes/TDHEs with 1-1,250 units: The minimum grant award amount is $25,000. The maximum grant award cap is $600 multiplied by the number of eligible units.

* * * * *

Dated: June 6, 2000.
Milan Ozdinec,
Acting General Deputy Assistant Secretary for Public and Indian Housing.

[FR Doc. 00-14604 Filed 6-8-00; 8:45 am]

BILLING CODE 4210-33-P